ENVIRONMENTAL PROTECTION AGENCY

[EPA-HQ-OAR-2022-0708; FRL-10097-01-OAR]

Proposed Information Collection Request; Comment Request; National Refrigerant Recycling and Emissions Reduction Program (Renewal)

AGENCY: Environmental Protection Agency (EPA).

ACTION: Notice.

SUMMARY: The Environmental Protection Agency (EPA) is planning to submit an information collection request (ICR), “National Refrigerant Recycling and Emissions Reduction Program” (EPA ICR No. 1626.18, OMB Control No. 2060-0256) to the Office of Management and Budget (OMB) for review and approval in accordance with the Paperwork Reduction Act. Before doing so, EPA is soliciting public comments on specific aspects of the proposed information collection as described below. This is a proposed extension of the ICR, which is currently approved through April 30, 2023. An Agency may not conduct or sponsor and a person is not required to respond to a collection of information unless it displays a currently valid OMB control number.

DATES: Comments must be submitted on or before November 18, 2022.

ADDRESSES: Submit your comments, referencing Docket ID No. EPA-HQ-OAR-2022-0708, online using www.regulations.gov (our preferred method), by email to: a-and-r-docket@epa.gov or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Robert Burchard, Stratospheric Protection Division, Office of Atmospheric Programs, (6205A, Environmental Protection Agency, 1200 Pennsylvania Ave. NW, Washington, DC 20460; telephone number: (202) 343-9126; email address: burchard.robert@epa.gov.

SUPPLEMENTARY INFORMATION:

Supporting documents which explain in detail the information that EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the Paperwork Reduction Act, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Section 608 of the Clean Air Act (CAA), also known as the National Recycling and Emission Reduction Program (the Program), directs the Environmental Protection Agency (EPA) to issue regulations governing the use of ozone-depleting substances (ODS), including chlorofluorocarbons (CFCs) and hydrochlorofluorocarbons (HCFCs), during the maintenance, service, repair, or disposal of air-conditioning and refrigeration appliances. Section 608 also prohibits knowingly venting or releasing ozone-depleting and substitute refrigerants in the course of maintaining, servicing, repairing, or disposing of appliances or industrial process refrigeration except for de minimis releases associated with good faith attempts to recycle or recover refrigerants. The regulations require persons servicing refrigeration and air-conditioning appliances to follow certain service practices that reduce emissions of refrigerants. The regulations also establish certification programs for technicians, recovery/recycling equipment, and refrigerant reclamation. In addition, EPA requires that refrigerants contained in appliances be removed prior to disposal of the appliances and that all refrigeration and air-conditioning appliances be provided with a servicing aperture that facilitates recovery of the refrigerant. The Agency requires that substantial refrigerant leaks in appliances containing ozone-depleting refrigerant be repaired when they are discovered.

Form Numbers: 5900-404, 5900-405, 5900-407.

Respondents/affected entities: Entities required to comply with reporting and recordkeeping requirements include technicians; technician certification programs; refrigerant wholesalers; refrigerant reclaimers; refrigerant recovery equipment certification programs; certain refrigeration and air-conditioning equipment owners and/or operators; and other establishments that perform refrigerant removal, service, or disposal.

Respondent's obligation to respond: Mandatory (40 CFR part 82, subpart F).

Estimated number of respondents: 572,727.

Frequency of response: The frequency of responses varies from once a year to daily.

Total estimated burden: 425,514 hours (per year). Burden is defined at 5 CFR 1320.03(b).

Total estimated cost: $31,432,946 (per year), There are no estimated annualized capital or operation and maintenance costs associated with the reporting or recordkeeping requirements.

Changes in Estimates: There is a decrease of 47,837 hours in the total estimated respondent burden compared with the ICR currently approved by OMB. This decrease is due to adjusted respondent estimates for appliance leak repair and retrofit or retirement plan extension requests based on recently available industry data and reported activity.

Cynthia A. Newberg,
Director, Stratospheric Protection Division.

[FR Doc. 2022-20172 Filed 9-16-22; 8:45 am]

BILLING CODE 6560-50-P